DEPARTMENT OF ENERGY

Federal Energy Regulatory Commission

[Docket No. EL03-233-000, et al.]

Eurus Toya West II LLC, et al.; Electric Rate and Corporate Filings

May 20, 2004.

The following filings have been made with the Commission. The filings are listed in ascending order within each docket classification.

1. Eurus Toya West II LLC

[Docket No. EL03-233-001]

Take notice that on May 13, 2004, Eurus Toya West II LLC, a Delaware limited liability company (Eurus), filed an Amended Request for Declaratory Order (the Amended Request), which supplements Eurus's Petition for Declaratory Order filed on September 25, 2003 (the Petition), requesting that, under the circumstances described in the Petition and the Amended Request, Eurus will not be considered a public utility under the Federal Power Act should it consummate the transfer of a portion of the Sagebrush Transmission Line, as more fully described in the Petition and supplemented by the Amended Request.

Comment Date: June 1, 2004.

2. Bridger Valley Electric Association, Inc.

[Docket No. ER04-850-000]

Take notice that on May 18, 2004, Bridger Valley Electric Association, Inc. (Bridger Valley), tendered for filing an amendment to its Open Access Transmission Tariff (OATT), FERC Electric Tariff, Original Volume No. 1. Bridger Valley states that the proposed amendments seek to limit the scope of Bridger Valley's current generator interconnection protocols to small generator interconnection requests (less than 20 MW) only. Bridger Valley requests an effective date of May 18, 2004.

Comment Date: June 8, 2004.

3. Meriden Gas Turbines LLC

[Docket No. ER04-852-000]

Take notice that on May 18, 2004, Meriden Gas Turbines LLC (Meriden) submitted pursuant to section 35.15 of the Commission's regulations, 18 CFR 35.15, a notice canceling Meriden's FERC Rate Schedule No. 1. Meriden requests that the cancellation be made effective May 18, 2004.

Comment Date: June 8, 2004.

4. Electric Energy, Inc.

[Docket No. ES04-33-000]

Take notice that on May 14, 2004, Electric Energy, Inc. (EEInc.) submitted an application pursuant to section 204 of the Federal Power Act requesting that the Commission authorize the issuance of unsecured short-term debt in an amount not to exceed $70 million.

EEInc. also requests a waiver from the Commission's competitive bidding and negotiated placement requirements at 18 CFR 34.2.

Comment Date: June 4, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-1228 Filed 5-28-04; 8:45 am]

BILLING CODE 6717-01-P